DEPARTMENT OF ENERGY

Availability of Fiscal Years 2011-2016 Draft Strategic Plan and Request for Public Comment

AGENCY: Department of Energy (DOE).

ACTION: Notice of availability of DOE's Draft Strategic Plan and request for comment.

SUMMARY: The Department of Energy (DOE) invites the public to comment on the draft DOE 2011 Strategic Plan. The Government Performance and Modernization Act of 2010 requires that federal agencies revise and update their strategic plan at least every four years and, in doing so, solicit the views of interested members of the public during this process.

DATES: Submit comments on or before March 26, 2011.

ADDRESSES: Electronic mail comments may be submitted to: strategicplan@ hq.doe.gov. Please include “DOE Strategic Plan” in the subject line. Please put the full body of your comments in the text of the electronic message and as an attachment. Please include your name, title, organization, postal address, telephone number, and e-mail address in the text of the message.

Comments may also be submitted by surface mail to: Department of Energy, Office of Program Analysis and Evaluation (CF-20), 1000 Independence Ave., SW., Washington, DC 20585. Respondents are encouraged to submit comments electronically to ensure timely receipt.

The draft DOE 2011 Strategic Plan can be accessed at http://www.energy.gov/about/budget.htm.

FOR FURTHER INFORMATION CONTACT: David Abercrombie, DOE Program Analysis and Evaluation Office, at (202) 586-8664, or e-mail david.abercrombie@hq.doe.gov. Michael Holland, Office of the Under Secretary for Science at (202) 586-0505, or e-mail mike.holland@science.doe.gov.

SUPPLEMENTARY INFORMATION: The DOE was established in October 1977. The DOE administers over $182 billion in assets including 24 research laboratories and facilities and employs nearly 15,000 federal and just over 100,000 contractor employees with an annual budget of about $26 billion.

Since taking office, President Obama and DOE Secretary Chu have articulated clear goals for DOE's four main business lines: nuclear security, environmental clean-up, science and energy. Our first goal for transforming our energy systems is to catalyze the timely, material, and economic transformation of the nation's energy system and secure U.S. leadership in clean energy technologies. Our goal for our science and engineering enterprise is to maintain a vibrant U.S. effort in science and engineering as a cornerstone of our economic prosperity, with clear leadership in strategic areas of importance to the Department's missions. Our goal for securing our nation is to enhance nuclear security in defense, non-proliferation, nuclear power, and environmental safeguards. We also have a goal to pursue management excellence in all that we do, which requires us to achieve our mission by establishing an operational and adaptable framework that combines the best wisdom of all the DOE stakeholders.

The strategy behind these goals is explained in the draft DOE Strategic Plan. The plan outlines how the DOE will focus its world leading science and research and development programs on the nation's most pressing energy and security challenges. It is important to note that the draft strategic plan is not a national energy plan, since that is an inherently multi-agency effort.

The draft DOE Strategic Plan outlines the strategies the DOE intends to employ for best utilizing these resources. Once completed, the DOE Strategic Plan shall be a matter of public record and will be published on the DOE Web site at http://www.energy.gov/about/budget.htm.

While comments are invited on all aspects of the DOE Strategic Plan, DOE is particularly interested in: (a) Whether the plan is easy to read and understand; (b) whether the plan is complete, sufficiently covering topics of interest to the public; and (c) ways to enhance the quality of the information in the plan.

Public Participation Policy

It is the policy of the Department to ensure that public participation is an integral and effective part of DOE activities, and that decisions are made with the benefit of significant public perspectives.

The Department recognizes the many benefits to be derived from public participation for both stakeholders and DOE. Public participation provides a means for DOE to gather a diverse collection of opinions, perspectives, and values from the broadest spectrum of the public, enabling the Department to make more informed decisions. Public participation benefits stakeholders by creating an opportunity to provide input on decisions that affect their communities and our nation.

Issued in Washington, DC, on February 17, 2011.
Steven E. Koonin,
Under Secretary for Science, Department of Energy.

[FR Doc. 2011-4149 Filed 2-23-11; 8:45 am]

BILLING CODE 6450-01-P